ENVIRONMENTAL PROTECTION AGENCY

[FRL 8447-4]

Gulf of Mexico Program Management Committee Meeting

AGENCY: Environmental Protection Agency (EPA).

ACTION: Notice of meeting.

SUMMARY: Under the Federal Advisory Committee Act (Pub. L. 92-463), EPA gives notice of a meeting of the Gulf of Mexico Program (GMP) Management Committee Meeting (MC).

For information on access or services for individuals with disabilities, please contact Gloria Car, U.S. EPA, at (228) 688-2421 or car.gloria@epa.gov. To request accommodation of a disability, please contact Gloria Car, preferably at least 10 days prior to the meeting, to give EPA as much time as possible to process your request.

DATES: The meeting will be held on Wednesday, August 22, 2007, from 1:30 p.m. to 5 p.m. and Thursday, August 23, 2007, from 8:30 a.m. to 12:30 p.m.

ADDRESSES: The meeting will be held at the Mississippi Department of Marine Resources, 1141 Bayview Avenue, Biloxi, Mississippi, 39530, (228) 688-3726.

FOR FURTHER INFORMATION CONTACT: Gloria D. Car, Designated Federal Officer, Gulf of Mexico Program Office, Mail Code EPA/GMPO, Stennis Space Center, MS 39529-6000 at (228) 688-2421.

SUPPLEMENTARY INFORMATION: The proposed agenda includes the following topics: Gulf of Mexico Program Alliance—Status Brief; Report on Important Emerging Legislative Actions Relevant to the Alliance and/or Gulf Program; Coastal America Update: Designation of Veracruz Aquarium and J.L. Scott Marine Education Center as Coastal Ecosystem Learning Centers (CELCs); Binational Harmful Algal Bloom Veracruz Monitoring Pilot; NASA Remote Sensing—Gulf of Mexico Alliance Applications Initiative; Wastewater to Wetlands; USGS/DOI Alliance Coordination; and Gulf Regional Sediment Management Master Plan.

The meeting is open to the public.

Dated: July 23, 2007.
Gloria D. Car,
Designated Federal Officer.

[FR Doc. E7-14676 Filed 7-27-07; 8:45 am]

BILLING CODE 6560-50-P